DEPARTMENT OF THE INTERIOR

Tribal Consultation Sessions—Administrative Organizational Assessment Draft Report, Organizational Streamlining of BIA and BIE, and BIE Topics

AGENCY: Office of the Assistant Secretary—Indian Affairs, Interior.

ACTION: Notice.

SUMMARY: The Office of the Assistant Secretary—Indian Affairs (AS-IA), the Bureau of Indian Affairs (BIA), and the Bureau of Indian Education (BIE) are hosting several upcoming tribal consultation sessions. The purpose of the sessions is to obtain tribal input on: the Administrative Organizational Assessment Draft Report on the organization of the AS-IA; ways to streamline the organizations of the BIA and the BIE; Johnson-O'Malley student count update; and the draft SF-424B assurance statement—non-construction programs.

DATES: See the SUPPLEMENTARY INFORMATION section of this notice for dates of the tribal consultation sessions. We will consider all comments received by close of business on May 25, 2012.

ADDRESSES: See the SUPPLEMENTARY INFORMATION section of this notice for locations of the tribal consultation sessions. Submit comments by email to: consultation@bia.gov or by U.S. mail to: Organizational Streamlining Comments, Office of the Assistant Secretary—Indian Affairs, U.S. Department of the Interior, Mail Stop 4141 MIB, Washington, DC 20240.

FOR FURTHER INFORMATION CONTACT: For the Administrative Organizational Assessment Draft Report, contact: Paul Tsosie, Chief of Staff, Office of the Assistant Secretary—Indian Affairs, (202) 208-7163. For BIA Streamlining, contact: Bryan Rice, Deputy Bureau Director, Office of Trust Services, Bureau of Indian Affairs, (202) 208-7513. For BIE Streamlining, the Johnson-O'Malley Student Count Update, or Draft SF-424B Assurance Statement—Non-construction Programs, contact: Brian Drapeaux, Chief of Staff, Bureau of Indian Education, (202) 208-6123.

SUPPLEMENTARY INFORMATION: The AS-IA, BIA, and BIE will be hosting the following tribal consultation sessions and invite tribal leaders to participate:

Date | Location
Thursday, April 12-Friday, April 13, 2012 | Miccosukee Resort and Gaming, 500 SW 177th Ave., Miami, FL 33194, (866) 599-6674. When booking use: “Bureau of Indian Affairs”.
Thursday, April 19-Friday, April 20, 2012 | Radisson Fort McDowell Resort Hotel, 10438 N. Fort McDowell Road, Scottsdale/Fountain Hill, AZ 85264, (480) 789-5300. When booking use: “Bureau of Indian Affairs Streamline Consultation”.
Thursday, April 26-Friday, April 27, 2012 | Northern Quest Resort & Casino, 100 N. Hayford Road, Airway Heights, WA 99001, (509) 481-6166.
Thursday, May 3-Friday, May 4, 2012 | Holiday Inn Rapid City-Rushmore Plaza, 505 N. 5th Street, Rapid City, SD 57701, (605) 348-4000.
Thursday, May 10-Friday, May 11, 2012 | Choctaw Casino Resort, 4216 S. Hwy 69/75, Durant, OK 74701, (580) 931-8340.
Thursday, May 17-Friday, May 18, 2012 | Thunder Valley Casino Resort, 1200 Athens Avenue, Lincoln, CA 95648, (877) 468-8777. When booking use: “120516BURE”.

The agenda for each of the sessions will be as follows (all times are local):

Day 1 Agenda
8 a.m.-10 a.m. | Administrative Organizational Assessment Draft Report | AS-IA
10 a.m.-12:30 p.m. | BIA Streamlining Plan | BIA
12:30 p.m.-1:30 p.m. | Lunch (on your own) |
1:30 p.m.-2:30 p.m. | BIA Streamlining Plan (continued) | BIA
2:30 p.m.-5 p.m. | BIE Streamlining Plan | BIE
Day 2 Agenda
8 a.m.-12 p.m. | Johnson-O'Malley Student Count Update | BIE
| Draft SF-424B Assurance Statement—Non-construction Programs

A brief description of each of the topics is provided below. Further information is available at: http://www.indianaffairs.gov/WhoWeAre/AS-IA/Consultation/index.htm.

The Administrative Organizational Assessment Draft Report—The AS-IA is seeking input on the results of the Administrative Organizational Assessment Draft Report. The Assessment was conducted by an impartial third-party contractor, the Bronner Group, LLC, to evaluate the administrative support structures for BIA and BIE. The Draft Report includes a number of recommendations in the following functional areas: budget and financial management; acquisition and contract management; property management and building maintenance; human resources; safety management; and communications. More information on the Draft Report is available at: http://www.indianaffairs.gov/WhoWeAre/AS-IA/Consultation/index.htm.

The BIA Streamlining Plan—The BIA is seeking tribal input on ways to streamline its organization to meet budgetary constraints and increase efficiency in the delivery of services to tribes and Indian beneficiaries. The BIA is particularly interested in tribes' perspectives on consolidation of agency or field offices with minimal staffing and/or services, and consolidation of regional office programs or services where efficiencies may be achieved.

The BIE Streamlining Plan—The BIE is seeking tribal input on ways to streamline its organization to meet imminent budgetary constraints and to improve the quality of education provided to students served by BIE-funded schools.

The Johnson-O'Malley Student Count Update—The BIE is seeking tribal input on updating its count of students eligible for Johnson-O'Malley Program funding. As part of the Fiscal Year 2012 appropriations, Congress directed the BIE, in consultation with tribes and the U.S. Department of Education, to update its count of students eligible for the Johnson-O'Malley Program funding, and to report the results to Congress.

The Draft SF-424B Assurance Statement—Non-Construction Programs—The BIE is seeking tribal input on revision of provisions of the SF-424B Assurance Statement for Public Law 100-297 Tribally Controlled Grant Schools. The assurance statement accompanies the transfer of funds from the BIE to tribally controlled grant schools. The BIE is particularly interested in tribes' perspectives on adding the following to the assurance statement: “Will comply with all applicable statutory and regulatory requirements of the Elementary and Secondary Education Act (ESEA), also known as the No Child Left Behind (NCLB) Act of 2001, and Individuals with Disabilities Education Act (IDEA).”

Dated: March 6, 2012.
Larry Echo Hawk,
Assistant Secretary—Indian Affairs.

[FR Doc. 2012-5870 Filed 3-9-12; 8:45 am]

BILLING CODE 4310-6W-P